DEPARTMENT OF COMMERCE

International Trade Administration

[A-201-847]

Heavy-Walled Rectangular Welded Carbon Steel Pipes and Tubes From Mexico: Amended Final Results of Antidumping Duty Administrative Review; 2021-2022

AGENCY: Enforcement and Compliance, International Trade Administration, Department of Commerce.

SUMMARY: The U.S. Department of Commerce (Commerce) is amending the final results of the administrative review of the antidumping duty (AD) order on heavy-walled rectangular welded carbon steel pipes and tubes (HWR pipes and tubes) from Mexico to correct a ministerial error. The period of review (POR) is September 1, 2021, through August 31, 2022.

DATES: Applicable May 17, 2024.

FOR FURTHER INFORMATION CONTACT: David Crespo or Taylor Hatley, AD/CVD Operations, Office II, Enforcement and Compliance, International Trade Administration, U.S. Department of Commerce, 1401 Constitution Avenue NW, Washington, DC 20230; telephone: (202) 482-3693 or (202) 482-4886, respectively.

SUPPLEMENTARY INFORMATION:

Background

On April 9, 2024, Commerce published in the Federal Register the Final Results of the 2021-2022 administrative review of the AD order on HWR pipes and tubes from Mexico.¹ On April 4, 2024, Commerce disclosed its calculations and provided interested parties with the opportunity to submit ministerial error comments.² On April 9, 2024, Productos Laminados de Monterrey S.A. de C.V (Prolamsa), a mandatory respondent in this review, timely submitted a ministerial error allegation.³ No other interested party submitted a ministerial error allegation or rebutted Prolamsa's ministerial error allegation. We are amending the Final Results to correct the ministerial error raised by Prolamsa.

¹ See Heavy-Walled Rectangular Welded Carbon Steel Pipes and Tubes From Mexico: Final Results of Antidumping Duty Administrative Review; 2021-2022, 89 FR 24777 (April 9, 2024) (Final Results).

² See Memorandum, “2021-2022 Antidumping Duty Administrative Review of Certain Heavy Walled Rectangular Welded Carbon Steel Pipes and Tubes from Mexico,” dated April 4, 2024.

³ See Prolamsa's Letter, “Ministerial Error Comments,” dated April 9, 2024 (Prolamsa's Ministerial Error Allegation).

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review.”

Ministerial Error

Commerce determined that it made an inadvertent error within the meaning of section 751(h) of the Act and 19 CFR 351.224(f) with respect to the treatment of the currency in which Prolamsa incurred its U.S. inventory carrying costs. Accordingly, pursuant to 19 CFR 351.224(e), Commerce is amending the Final Results to correct this ministerial error.⁴ This correction results in a change to Prolamsa's weighted-average dumping margin. For a complete description and analysis of the specific inadvertent error, and Prolamsa's ministerial error allegation, see the accompanying Ministerial Error Allegation Memorandum.⁵ The Ministerial Error Allegation Memorandum is a public document and is on file electronically via Enforcement and Compliance's Antidumping and Countervailing Duty Centralized Electronic Service System (ACCESS). ACCESS is available to registered users at https://access.trade.gov.

⁴ See Memorandum, “Administrative Review of the Antidumping Duty Order on Heavy Walled Rectangular Welded Carbon Steel Pipes and Tubes from Mexico; 2021-2022: Ministerial Error Allegation in the Final Results,” dated concurrently with this notice (Ministerial Error Allegation Memorandum).

⁵ Id.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides instructions for calculating the all-others rate in an investigation, for guidance when calculating the rate for companies which Commerce did not examine in an administrative review. Under section 735(c)(5)(A) of the Act, the all-others rate is normally an amount equal to the weighted average of the estimated weighted-average dumping margins established for exporters and producers individually investigated, excluding any zero, de minimis (i.e., less than 0.5 percent), or determined entirely on the basis of facts available.

For these amended final results of review, we calculated a weighted-average dumping margin for Prolamsa that is not zero, de minimis, or based entirely on the basis of facts available.

The calculated weighted-average dumping margins for the mandatory respondents, Maquilacero S.A. de C.V. (Maquilacero) ⁶ and Prolamsa, are not zero, de minimis, or based entirely on total facts available. Accordingly, Commerce is assigning to the companies not individually examined, listed in the chart below, a margin of 2.86 percent which is the weighted-average of Maquilacero's and Prolamsa's calculated weighted-average dumping margins.⁷

⁶ We note that the final margin for mandatory respondent, Maquilacero, did not change in these amended final results and continues to be 5.06 percent. See Final Results, 89 FR 24778.

⁷ See Memorandum, “Calculation of the Weighted-Average Dumping Margin for Non-Selected Companies for the Amended Final Results,” dated concurrently with this notice. As the weighting factor, we relied on the publicly ranged sales data reported in the quantity and value charts submitted by Maquilacero and Prolamsa.

Amended Final Results

As a result of correcting the ministerial error, Commerce determines that the following estimated weighted-average dumping margins exists for the period September 1, 2021, through August 31, 2022:

Exporter/producer | Weighted-average dumping margin (percent)
Productos Laminados de Monterrey S.A. de C.V | 1.61
Review-Specific Average Rate Applicable to the Following Companies
Aceros del Toro S.A. de C.V | 2.86
Aceros El Fraile S.A. de C.V | 2.86
Border Assembly S. de R.L. de C.V | 2.86
Buffalo Tube S.A. de C.V | 2.86
Fortacero S.A. de C.V | 2.86
Grupo Collado S.A. de C.V | 2.86
Perfiles y Herrajes L.M. S.A. de C.V | 2.86
P.J. Trailers Company S.A. de C.V | 2.86
Placa y Fierro de Monterrey S.A. de C.V | 2.86
Regiomontana de Perfiles y Tubos S.A. de C.V | 2.86

Disclosure

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(C) of the Act and 19 CFR 351.212(b)(1), Commerce has determined, and U.S. Customs and Border Protection (CBP) shall assess antidumping duties on all appropriate entries of subject merchandise in accordance with this amended final results of this review.

Pursuant to 19 CFR 351.212(b)(1), where Prolamsa reported the entered value of its U.S. sales, Commerce calculated importer-specific ad valorem AD assessment rates based on the ratio of the total amount of dumping calculated for each importer's examined sales to the total entered value of those same sales. Where Prolamsa did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where Prolamsa's weighted-average dumping margin is zero or de minimis within the meaning of 19 CFR 351.106(c)(1), or an importer-specific assessment rate is zero or de minimis, we will instruct CBP to liquidate the appropriate entries without regard to antidumping duties.

For entries of subject merchandise during the POR produced by Prolamsa for which it did not know that its merchandise was destined for the United States, we will instruct CBP to liquidate such entries at the all-others rate established in the less-than-fair-value (LTFV) investigation of 4.91 percent ad valorem,⁸ if there is no rate for the intermediate company(ies) involved in the transaction.

⁸ See Heavy Walled Rectangular Welded Carbon Steel Pipes and Tubes from the Republic of Korea, Mexico, and the Republic of Turkey: Antidumping Duty Orders, 81 FR 62865 (September 13, 2016).

For the companies identified above that were not selected for individual examination, we will instruct CBP to liquidate entries at the rate equal to the weighted-average dumping margin identified above in the “Final Results of Review” section.

Commerce intends to issue assessment instructions to CBP no earlier than 41 days after the date of publication of the final results of this review in the Federal Register, in accordance with 19 CFR 356.8(a).

Cash Deposit Requirements

The following amended cash deposit requirements will be effective retroactively upon publication of the amended final results of this administrative review in the Federal Register, for all shipments of the subject merchandise entered, or withdrawn from warehouse, for consumption on or after April 9, 2024, the publication date of the Final Results, as provided by section 751(a)(2)(C) of the Act: (1) the amended cash deposit rate for the companies listed above will be equal to the weighted-average dumping margin established in these amended final results of this review; (2) for merchandise exported by companies not covered in this review but covered in a prior completed segment of this proceeding, the cash deposit rate will continue to be the company-specific rate published in the completed segment for the most recent period; (3) if the exporter is not a firm covered in this review, a prior review, or the original LTFV investigation, but the producer is, then the cash deposit rate will be the rate established in the completed segment for the most recent period for the producer of the merchandise; and (4) the cash deposit rate for all other producers or exporters will continue to be 4.91 percent, the all-others rate established in the LTFV investigation.⁹ These cash deposit requirements, when imposed, shall remain in effect until further notice.

⁹ Id.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Administrative Protective Order

This notice also serves as the only reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation which is subject to sanction.

Notification to Interested Parties

We are issuing and publishing this notice in accordance with sections 751(h) and 777(i)(1) of the Act, and 19 CFR 351.224(e).

Dated: May 7, 2024.
Ryan Majerus,
Deputy Assistant Secretary for Policy and Negotiations, performing the non-exclusive functions and duties of the Assistant Secretary for Enforcement and Compliance.

[FR Doc. 2024-10846 Filed 5-16-24; 8:45 am]

BILLING CODE 3510-DS-P